DEPARTMENT OF TRANSPORTATION

Federal Aviation Administration

14 CFR Part 39

[Docket No. FAA-2010-0549; Directorate Identifier 2010-NM-109-AD; Amendment 39-16573; AD 2011-01-16]

RIN 2120-AA64

Airworthiness Directives; The Boeing Company Model DC-9-81 (MD-81), DC-9-82 (MD-82), DC-9-83 (MD-83), DC-9-87 (MD-87), and MD-88 Airplanes

AGENCY: Federal Aviation Administration (FAA), DOT.

ACTION: Final rule.

SUMMARY: We are adopting a new airworthiness directive (AD) for the products listed above. This AD requires installing fuel level float and pressure switch in-line fuses on the wing forward spars and forward and aft auxiliary fuel tanks, depending on the airplane configuration. This AD was prompted by fuel system reviews conducted by the manufacturer. We are issuing this AD to prevent the potential of ignition sources inside fuel tanks, which, in combination with flammable fuel vapors, could result in fuel tank explosions and consequent loss of the airplane.

DATES: This AD is effective February 16, 2011.

The Director of the Federal Register approved the incorporation by reference of a certain publication listed in the AD as of February 16, 2011.

ADDRESSES: For service information identified in this AD, contact Boeing Commercial Airplanes, Attention: Data & Services Management, 3855 Lakewood Boulevard, MC D800-0019, Long Beach, California 90846-0001; telephone 206-544-5000, extension 2; fax 206-766-5683; e-mail dse.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE., Washington, DC 20590.

FOR FURTHER INFORMATION CONTACT: Samuel Lee, Aerospace Engineer, Propulsion Branch, ANM-140L, FAA, Los Angeles Aircraft Certification Office (ACO), 3960 Paramount Boulevard, Lakewood, California 90712-4137; telephone 562-627-5262; fax 562-627-5210; e-mail samuel.lee@faa.gov.

SUPPLEMENTARY INFORMATION:

Discussion

We issued a notice of proposed rulemaking (NPRM) to amend 14 CFR part 39 to include an airworthiness directive (AD) that would apply to the specified products. That NPRM was published in the Federal Register on June 18, 2010 (75 FR 34661). That NPRM proposed to require installing fuel level float and pressure switch in-line fuses on the wing forward spars and forward and aft auxiliary fuel tanks, depending on the airplane configuration.

Comments

We gave the public the opportunity to participate in developing this AD. The following presents the comment received on the proposal and the FAA's response.

Request To Clarify Applicability

American Airlines (American) requested that we clarify the applicability of the NPRM. That NPRM identified airplanes in the effectivity of Boeing Service Bulletin MD80-28-226, dated April 14, 2010, which specifies that airplanes are not affected unless the actions specified in McDonnell Douglas MD-80 Service Bulletin 28-054 or 28-058 have been done or the float switches have been installed. (These service bulletins are currently at Revision 1, dated April 15, 1992; and Revision 2, dated July 6, 1992; respectively.) American reports that it operates airplanes with switches incorporated in production, but not installed specifically in accordance with McDonnell Douglas MD-80 Service Bulletin 28-054 or 28-058. American therefore requests that we clarify the applicability of the proposed AD to specify whether airplanes equipped with the subject fuel float/pressure switches—regardless of the method of installation—are affected.

We agree to provide clarification. McDonnell Douglas MD-80 Service Bulletins 28-054 and 28-058 specify that the switches are installed in production on specified and subsequent fuselage numbers. If switches are installed using McDonnell Douglas Service Bulletin 28-054 or 28-058 or production equivalent, the actions of this AD are required. We have added Note 1 in this AD to clarify the applicability.

Change to the Installation Requirements

The NPRM referred to Boeing Service Bulletin MD80-28-226, dated April 14, 2010, as the appropriate source of service information for the proposed requirements. Boeing has identified errors in certain references identified in that service bulletin, and issued Service Bulletin Information Notice MD80-28-226 IN 01, dated April 23, 2010, to correct these errors. We have included these corrections in new paragraph (h) in this final rule.

Explanation of Change Made to the [Proposed] AD

We have revised this AD to identify the legal name of the manufacturer as published in the most recent type certificate data sheet for the affected airplane models.

Conclusion

We reviewed the relevant data, considered the comment received, and determined that air safety and the public interest require adopting the AD with the changes described previously. We determined that these changes will not increase the economic burden on any operator or increase the scope of the AD.

Costs of Compliance

We estimate that this AD affects 640 airplanes of U.S. registry. The following table provides the estimated costs, depending on the airplane configuration, for U.S. operators to comply with this AD.

Estimated Costs
Action | Work hours | Average labor rate per hour | Parts | Cost per product | Number of U.S.- registered airplanes | Fleet cost
Installation | Between 7 and 17 | $85 | Between $817 and $1,725 | Between $1,412 and $3,170 | 640 | Between $903,680 and $2,028,800.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in subtitle VII, part A, subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2011-01-16 The Boeing Company: Amendment 39-16573; Docket No. FAA-2010-0549; Directorate Identifier 2010-NM-109-AD.

Effective Date

(a) This AD is effective February 16, 2011.

Affected ADs

(b) None.

Applicability

(c) This AD applies to The Boeing Company Model DC-9-81 (MD-81), DC-9-82 (MD-82), DC-9-83 (MD-83), DC-9-87 (MD-87), and MD-88 airplanes; certificated in any category; as identified in Boeing Service Bulletin MD80-28-226, dated April 14, 2010.

Note 1: The applicability of this AD is limited to airplanes on which switches are installed in accordance with McDonnell Douglas MD-80 Service Bulletin 28-054, dated April 8, 1991, or Revision 1, dated April 15, 1992; or McDonnell Douglas MD-80 Service Bulletin 28-058, dated April 8, 1991, Revision 1, dated August 2, 1991, or Revision 2, dated July 6, 1992; or production equivalent.

Subject

(d) Air Transport Association (ATA) of America Code 28: Fuel.

Unsafe Condition

(e) This AD results from fuel system reviews conducted by the manufacturer. The Federal Aviation Administration is issuing this AD to prevent the potential of ignition sources inside fuel tanks, which, in combination with flammable fuel vapors, could result in fuel tank explosions and consequent loss of the airplane.

Compliance

(f) You are responsible for having the actions required by this AD performed within the compliance times specified, unless the actions have already been done.

Fuse Installation

(g) Within 60 months after the effective date of this AD, install fuel level float and pressure switch in-line fuses, and do applicable wiring changes, in the applicable locations specified in paragraph (g)(1), (g)(2), or (g)(3) of this AD. Do the actions in accordance with the Accomplishment Instructions of Boeing Service Bulletin MD80-28-226, dated April 14, 2010, except as required by paragraph (h) of this AD.

(1) For Groups 1 through 6: On the left, right, and center wing forward spars.

(2) For Groups 7 and 8: On the left, right, and center wing forward spars, and aft auxiliary fuel tank.

(3) For Groups 9 through 11: On the left, right, and center wing forward spars, forward auxiliary fuel tank, and aft auxiliary fuel tank.

Exception to Service Bulletin Specifications

(h) Paragraph 3.B.1. of Boeing Service Bulletin MD80-28-226, dated April 14, 2010, for Groups 1 through 11, refers to the Boeing MD80 Airplane Maintenance Manual (AMM) defueling procedure MD80 AMM 12-13-00. The correct reference is Boeing MD80 AMM 12-11-01.

Alternative Methods of Compliance (AMOCs)

(i)(1) The Manager, Los Angeles Aircraft Certification Office (ACO), FAA, has the authority to approve AMOCs for this AD, if requested using the procedures found in 14 CFR 39.19. Send information to Attn: Samuel Lee, Aerospace Engineer, Propulsion Branch, ANM-140L, FAA, Los Angeles ACO, 3960 Paramount Boulevard, Lakewood, California 90712-4137; telephone 562-627-5262; fax 562-627-5210.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Related Information

(j) For more information about this AD, contact Samuel Lee, Aerospace Engineer, Propulsion Branch, ANM-140L, FAA, Los Angeles ACO, 3960 Paramount Boulevard, Lakewood, California 90712-4137; telephone 562-627-5262; fax 562-627-5210; e-mail samuel.lee@faa.gov.

Material Incorporated by Reference

(k) You must use Boeing Service Bulletin MD80-28-226, dated April 14, 2010, to do the actions required by this AD, unless the AD specifies otherwise.

(1) The Director of the Federal Register approved the incorporation by reference of this service information under 5 U.S.C. 552(a) and 1 CFR part 51.

(2) For service information identified in this AD, contact Boeing Commercial Airplanes, Attention: Data & Services Management, 3855 Lakewood Boulevard, MC D800-0019, Long Beach, California 90846-0001; telephone 206-544-5000, extension 2; fax 206-766-5683; e-mail dse.boecom@boeing.com; Internet https://www.myboeingfleet.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at an NARA facility, call 202-741-6030, or go to http://www.archives.gov/federal_register/code_of_federal_regulations/ibr_locations.html.

Issued in Renton, Washington, on December 27, 2010.
Jeffrey E. Duven,
Acting Manager, Transport Airplane Directorate, Aircraft Certification Service.

[FR Doc. 2010-33345 Filed 1-11-11; 8:45 am]

BILLING CODE 4910-13-P